DEPARTMENT OF DEFENSE

Department of the Army, Corps of Engineers

Notice of Intent to Prepare a Draft Environment Impact Statement and Conduct a Public Scoping Meeting for the Proposed Thousand Palms Flood Control Project within the Thousand Palms Area of Coachella Valley, Riverside County, California (Corps file no. SPL-2014-00238-RJV)

AGENCY: Department of the Army, U.S. Army Corps of Engineers, DoD.

ACTION: Notice of Intent.

SUMMARY: The purpose of this notice is to initiate a 45-day scoping process for preparation of a Draft Environmental Impact Statement (DEIS) for the Coachella Valley Water District's (CVWD) proposed Thousand Palms Flood Control Project.

DATES: Submit comments concerning this notice on or before June 23, 2014. A public scoping meeting will be held on May 6, 2014 at 6:00 p.m. (PST).

ADDRESSES: The scoping meeting location is: Thousand Palms Community Center, 31-189 Roberts Road, Thousand Palms, CA 92276.

Mail written comments concerning this notice to: U.S. Army Corps of Engineers, Los Angeles District, Regulatory Division, Carlsbad Field Office, ATTN: SPL-2014-00238-RJV, 5900 La Place Court, Suite 100, Carlsbad, CA 92008. Comment letters should include the commenter's physical mailing address, the project title and the Corps file number in the subject line.

FOR FURTHER INFORMATION CONTACT: Richard J. Van Sant III, U.S. Army Corps of Engineers, Los Angeles District, Regulatory Division, Carlsbad Field Office, ATTN: SPL-2014-00238-RJV, 5900 La Place Court, Suite 100, Carlsbad, CA 92008, (760) 602-4837, richard.j.vansant@usace.army.mil.

SUPPLEMENTARY INFORMATION: In accordance with the National Environmental Policy Act (NEPA), the Corps is preparing an Environmental Impact Statement (EIS) prior to any permit action. The Corps may ultimately make a determination to permit or deny the proposed project or a modified version of the proposed project. The primary Federal concerns are the discharge of fill material into waters of the United States.

Authority: 33 U.S.C. 1344.

1. Project Description. CVWD is proposing to construct a flood control project that is linear in nature, consists of four reaches, and is generally located on the northern and eastern margins of the community of Thousand Palms. Components of the project include levees, channels, and energy dissipating structures. The levees and channels would be comprised of soil cement, and the upslope sides of each levee would be armored with soil cement. Reach 1 is comprised of a 2.4 mile long levee (with a height of approximately 11.5 feet on the upstream end and approximately 14 feet on the downstream end), an energy dissipater at the south-eastern terminus, and an access road at Via Las Palmas. Reach 2 is comprised of a 0.33 mile long levee (with a height of approximately 14 feet) and would be positioned in the mid-alluvial fan area just northeast of an existing electrical substation, to protect the substation and adjacent development. Reach 3 is comprised of a 1.23 mile long levee, an access road, and a 1.01 mile channel. The levee would have a height of approximately 14 feet at the upstream end, increasing to approximately 18 feet at the downstream end and would initiate approximately 2,000 feet southwest of the downstream end of Reach 2, roughly 1,000 feet south of Ramon Road. The channel would divert flows through the existing Classic Club Golf Course. Reach 4 is comprised of an approximately two-mile long channel that would divert stormwater flows from the southeast end of the Classic Club Golf Course and continue south then east, adjacent to the re-aligned Avenue 38, and would terminate at Washington Street in the community of Macomber Palms.

2. Issues. Potentially significant impacts associated with the proposed project may include: Aesthetics/visual impacts, air quality emissions, biological resource impacts, noise, traffic and transportation, and cumulative impacts from past, present and reasonably foreseeable future projects.

3. Alternatives. The Draft EIS will include a co-equal analysis of several alternatives. Project alternatives will be further developed during this scoping process. Additional alternatives that may be developed during scoping will also be considered in the Draft EIS.

4. Scoping. The Corps and CVWD will jointly conduct a public scoping meeting to receive public comment regarding the appropriate scope and preparation of the Draft EIS. Participation by Federal, state, and local agencies and other interested organizations and persons is encouraged.

5. The Draft EIS is expected to be available for public review and comment 6 to 12 months after the scoping meeting, and a public meeting may be held after its publication.

Dated: April 17, 2014.
Therese O. Bradford,
Chief, South Coast Branch.

[FR Doc. 2014-10098 Filed 5-1-14; 8:45 am]

BILLING CODE 3720-58-P